DEPARTMENT OF JUSTICE

Antitrust Division

Notice Pursuant to the National Cooperative Research and Production Act of 1993—Petroleum Environmental Research Forum (“PERF”) Project No. 96-08

Notice is hereby given that, on July 1, 2002, pursuant to Section 6(a) of the National Cooperative Research and Production Act of 1993, 15 U.S.C. 4301 et seq. (“the Act”), Phillips Petroleum Company (“Phillips”) has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are Phillips Petroleum Company, Bartlesville, OK; Exxon Research and Engineering Co., Linden, NJ; Union Oil Company of California dba Unocal Corporation, Brea, CA; Stichting Grondmechanica Delft, Delft, The Netherlands; Port of Rotterdam, Rotterdam, The Netherlands; and BP Corporation North America Inc., Lisle, IL.

The nature and objectives of the venture are to evaluate, develop, apply and transfer technology and information that will assist in cost effective characterization of petroleum contaminated sites. The project will be use as a forum for: (a) Exchanging information about new technologies and frameworks, (b) promoting a greater awareness and understanding of rapid site assessment approaches and (c) advancing regulatory acceptance of the approach. The scope of this project will include identifying and transferring existing technology, and developing new technologies, in the following areas: (1) Reviewing and evaluating emerging RSA (Rapid Site Assessment) processes and tools; (2) identifying situations in which RSA tools can be cost-effectively used; (3) providing guidance for the application of RSA tools; (4) identifying emerging technology; (5) exchanging case histories highlighting practical operational experience gained, as well as analytical data and results; and (6) implementing field tests of new technology to demonstrate technical feasibility and cost-effectiveness for petroleum contaminated sites.

Constance K. Robinson,
Director of Operations, Antitrust Division.

[FR Doc. 02-22447 Filed 9-3-02; 8:45 am]

BILLING CODE 4410-11-M